NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: February 25, 2021; 1:00 p.m.-5:30 p.m.; February 26, 2021; 10:00 a.m.-3:30 p.m.

Place: National Science Foundation, 2415 Eisenhower Avenue, Alexandria, VA 22314 (Virtual). Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: February 25, 2021

• Welcome/Opening Remarks

• Report of the CEOSE Executive Liaison

• Presentation: Open Science and NSF Broader Impacts

• Joint Session with NSB

• CEOSE Liaison Reports

• Discussion: Recommendation(s) of the 2019-2020 CEOSE Report and Planning for the Next Day

Day 2: February 26, 2021

• Overview of the Day

• Discussion: Special Sessions with NCSES and EHR Advisory Committee in Spring 2021

• Group Work: Review of the Draft 2019-2020 CEOSE Review

• Reports of Federal Liaisons

• Discussion with NSF Director and Chief Operating Officer

• Announcements and Closing Remarks

• Adjournment

Dated: January 21, 2021.
Crystal Robinson,
Committee Management Officer.

[FR Doc. 2021-01656 Filed 1-25-21; 8:45 am]

BILLING CODE 7555-01-P